DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

Administration and Financing of Group Homes and Residential Facilities for Persons With Mental Illness—New—The Substance Abuse and Mental Health Services Administration (SAMHSA) will conduct a survey of state health officials to determine what types of residential care programs for persons with mental illness are operated in each State and the District of Columbia. The state health officials will be identified through Web searches of State Mental Health Departments and other relevant agencies on a State-by-State basis.

The survey will contact identified state health officials in all fifty States (and the District of Columbia) and will gather information on the following six survey domains: Facility characteristics (for approximately five different types of group homes); Licensing and certification; Facility programs and treatment services; Seclusion and restraint; Facility monitoring and oversight; and, Financing. The questionnaire will identify and describe the types of residential facilities for persons with mental illness that are licensed, certified, and/or financed by State governments; the target population served by each facility type; the range of services provided in each facility type; provisions for monitoring each facility type, including the use of seclusion and restraints; and, sources of financing for each facility type.

This information collection supports the New Freedom Initiative, one of SAMHSA's current priorities; the New Freedom Initiative is the President's comprehensive plan to reduce barriers to full community integration for people with disabilities. The national survey will provide new information to SAMHSA and to other policymakers regarding the ways in which group homes and other types of residential facilities for adults, adolescents, and children with mental illness are established, regulated, and financed.

The questionnaire will be distributed to identified state health officials in electronic and/or paper formats. State health officials may either return the completed questionnaire via email or regular mail or request a telephone interview. In addition, respondents who do not return a completed paper questionnaire will be contacted and interviewed by telephone.

Estimates of Annualized Hour Burden
Number of respondents | Responses per respondent | Hours per response | Total hour burden
240 | 1 | 1 | 240

Written comments and recommendations concerning the proposed information collection should be sent within 30 days of this notice to: Lauren Wittenberg, Human Resources and Housing Branch, Office of Management and Budget, New Executive Office Building, Room 10235, Washington, DC 20503; due to potential delays in OMB's receipt and processing of mail sent through the U.S. Postal Service, respondents are encouraged to submit comments by fax to: 202-395-6974.

Dated: August 18, 2003.
Anna Marsh,
Acting Executive Officer, SAMHSA.

[FR Doc. 03-21735 Filed 8-25-03; 8:45 am]

BILLING CODE 4162-20-P